FEDERAL COMMUNICATIONS COMMISSION

[OMB 3060-1034; OMB 3060-1103; FR ID 190583]

Information Collections Being Reviewed by the Federal Communications Commission Under Delegated Authority

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before February 20, 2024. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-1034.

Title: Digital Audio Broadcasting Systems and their Impact on the Terrestrial Radio Broadcast Service; Form 2100, Schedule 335-FM—FM Digital Notification; Form 2100, Schedule 335-AM—AM Digital Notification.

Form Number: Form 2100, Schedule 335-FM—FM Digital Notification; Form 2100, Schedule

335-AM—AM Digital Notification.

Type of Review: Extension of a currently approved collection.

Respondents: Business or other for-profit entities and nonprofit entities.

Number of Respondents and Responses: 270 respondents; 270 responses.

Estimated Hours per Response: 1 hour-8 hours.

Frequency of Response: On occasion reporting requirement.

Total Annual Burden: 490 hours.

Total Annual Cost: $197,000.

Obligation to Respond: Required to obtain or retain benefits. The statutory authority for this collection of information is contained in Sections 154(i), 303, 310, and 553 of the Communications Act of 1934, as amended.

Needs and Uses: FM and AM broadcast station licensees are required to notify the Commission of certain changes in digital operations using the Digital Notification Forms, FCC Form 2100, Schedules 335-FM and 335-AM (or any successor notification forms).

Specifically pertaining to this Information Collection, in the All-Digital AM Broadcasting Report and Order, FCC 20-154, MB Dockets 19-311 and 13-249, released on October 27, 2020, the Commission revised and reorganized the digital notification requirements formally contained in section 73.404(e) of the rules, by removing paragraph 73.404(e) and adding new section 73.406 Notification.

The notification requirements contained under 47 CFR 73.406 are as follows:

Hybrid AM and FM licensees must electronically file a digital notification to the Commission in Washington, DC, within 10 days of commencing IBOC digital operation. All-digital licensees must file a digital notification within 10 days of the following changes: (1) Any reduction in nominal power of an all-digital AM station; (2) a transition from enhanced to core-only operating mode; or (3) a reversion from all-digital to hybrid or analog operation. All-digital licensees will not be permitted to commence operation sooner than 30 calendar days from public notice of digital notification of the following changes: (1) The commencement of new all-digital operation; (2) an increase in nominal power of an all-digital AM station; or (2) a transition from core-only to enhanced operating mode.

(a) Every digital notification must include the following information:

(1) The call sign and facility identification number of the station;

(2) If applicable, the date on which the new or modified IBOC operation commenced or ceased;

(3) The name and telephone number of a technical representative the Commission can call in the event of interference;

(4) A certification that the operation will not cause human exposure to levels of radio frequency radiation in excess of the limits specified in § 1.1310 of this chapter and is therefore categorically excluded from environmental processing pursuant to § 1.1306(b) of this chapter. Any station that cannot certify compliance must submit an environmental assessment (EA) pursuant to § 1.1311 of this chapter and may not commence IBOC operation until such EA is ruled upon by the Commission.

(b) Each AM digital notification must also include the following information:

(1) A certification that the IBOC DAB facilities conform to applicable nominal power limits and emissions mask limits;

(2) The nominal power of the station; if separate analog and digital transmitters are used, the nominal power for each transmitter;

(3) If applicable, the amount of any reduction in an AM station's digital carriers;

(4) For all-digital stations, the type of notification (all-digital notification, increase in nominal power, reduction in nominal power, transition from core-only to enhanced, transition from enhanced to core-only, reversion from all-digital to hybrid or analog operation);

(5) For all-digital stations, if a notification of commencement of new all-digital service or a nominal power change, whether the station is operating in core-only or enhanced mode; and

(6) For all-digital stations, a certification that the all-digital station complies with all EAS requirements.

(c) Each FM digital notification must also include the following information:

(1) A certification that the IBOC DAB facilities conform to the HD Radio emissions mask limits;

(2) FM digital effective radiated power used and certification that the FM analog effective radiated power remains as authorized;

(3) If applicable, the geographic coordinates, elevation data, and license file number of the auxiliary antenna employed by an FM station as a separate digital antenna; and

(4) If applicable, for FM systems employing interleaved antenna bays, a certification that adequate filtering and/or isolation equipment has been installed to prevent spurious emissions in excess of the limits specified in § 73.317.

OMB Control Number: 3060-1103.

Title: Section 76.41 Franchise Application Process.

Type of Review: Extension of a currently approved collection.

Form Number: N/A.

Respondents: State, local or tribal government, Business or other for-profit entities.

Number of Respondents and Responses: 22 respondents and 40 responses.

Estimated Hours per Response: 0.5 to 4 hours.

Frequency of Response: On occasion reporting requirements; Third party disclosure requirement.

Total Annual Burden: 90 hours.

Total Annual Cost: No cost.

Needs and Uses: The information collection requirements are as follows: 47 CFR 76.41(b) requires a competitive franchise applicant to include the following information in writing in its franchise application, in addition to any information required by applicable state and local laws:

(1) The applicant's name;

(2) The names of the applicant's officers and directors;

(3) The business address of the applicant;

(4) The name and contact information of a designated contact for the applicant;

(5) A description of the geographic area that the applicant proposes to serve;

(6) The PEG channel capacity and capital support proposed by the applicant;

(7) The term of the agreement proposed by the applicant;

(8) Whether the applicant holds an existing authorization to access the public rights-of-way in the subject franchise service area;

(9) The amount of the franchise fee the applicant offers to pay; and

(10) Any additional information required by applicable state or local laws.

The information collection requirements contained in 47 CFR 76.41(d) states when a competitive franchise applicant files a franchise application with a franchising authority and the applicant has existing authority to access public rights-of-way in the geographic area that the applicant proposes to serve, the franchising authority grant or deny the application within 90 days of the date the application is received by the franchising authority. If a competitive franchise applicant does not have existing authority to access public rights-of-way in the geographic area that the applicant proposes to serve, the franchising authority must perform grant or deny the application within 180 days of the date the application is received by the franchising authority. A franchising authority and a competitive franchise applicant may agree in writing to extend the 90-day or 180-day deadline, whichever is applicable.

Federal Communications Commission.
Marlene Dortch,
Secretary, Office of the Secretary.

[FR Doc. 2023-27819 Filed 12-18-23; 8:45 am]

BILLING CODE 6712-01-P